OFFICE OF SCIENCE AND TECHNOLOGY POLICY

U.S. Global Change Research Program (USGCRP) Prospectus for its National Global Change Research Plan 2022-2031; Correction

AGENCY: Office of Science and Technology Policy (OSTP).

ACTION: Notice; correction.

SUMMARY: The Office of Science and Technology Policy published a document in the Federal Register of December 6, 2021, concerning request for comments on a prospectus for the National Global Change Research Plan. The document did not include necessary web links.

FOR FURTHER INFORMATION CONTACT: Direct technical questions to David Dokken (Senior Program Officer) at ddokken@usgcrp.gov or 202-419-3473. Process issues or concerns should be addressed to Michael Kuperberg (USGCRP Executive Director) at mkuperberg@usgcrp.gov.

SUPPLEMENTARY INFORMATION:

Correction

In the Federal Register of December 6, 2021, in FR Doc. 2021-26218, on page 69106, in the third column, add the following information as a final paragraph in SUPPLEMENTARY INFORMATION:

To download the prospectus and submit comments, access the USGCRP Review and Comment (R&C) System: https://review.globalchange.gov/.

To access background information described above, please use the following web links:

• USGCRP Review and Comment (R&C) System: https://review.globalchange.gov/

• USGCRP Website: https://www.globalchange.gov/

• Global Change Research Act (GCRA: Sec 104, Pub. L. 101-606): https://www.globalchange.gov/about/legal-mandate

• USGCRP Strategic Planning Context: https://www.globalchange.gov/engage/process-products/strategic-planning

• National Global Change Research Plan 2012-2021: https://downloads.globalchange.gov/strategic-plan/2012/usgcrp-strategic-plan-2012.pdf

• Global Change Research Needs and Opportunities for 2022-2031 (NASEM): https://www.nap.edu/read/26055/chapter/1

• Subcommittee on Global Change Research (SGCR): https://www.globalchange.gov/about/organization-leadership

• National Science and Technology Council (NSTC): https://www.whitehouse.gov/ostp/nstc/

Dated: December 9, 2021.
Stacy Murphy,
Operations Manager.

[FR Doc. 2021-27037 Filed 12-13-21; 8:45 am]

BILLING CODE P